DEPARTMENT OF TRANSPORTATION

Federal Aviation Administration

14 CFR Part 39

[Docket No. FAA-2022-0519; Project Identifier MCAI-2022-00589-R; Amendment 39-22050; AD 2022-10-51]

RIN 2120-AA64

Airworthiness Directives; Airbus Helicopters and Airbus Helicopters Deutschland GmbH (AHD) Helicopters

AGENCY: Federal Aviation Administration (FAA), DOT.

ACTION: Final rule; request for comments.

SUMMARY: The FAA is adopting a new airworthiness directive (AD) for Airbus Helicopters Model AS350B, AS350B1, AS350B2, AS350B3, AS350BA, AS350D, AS355E, AS355F, AS355F1, AS355F2, AS355N, AS355NP, EC130B4, and EC130T2 helicopters; and Airbus Helicopters Deutschland GmbH (AHD) Model EC135P1, EC135P2, EC135P2+, EC135P3, EC135T1, EC135T2, EC135T2+, EC135T3, MBB-BK 117 C-2, MBB-BK 117 D-2, and MBB-BK 117 D-3 helicopters. This AD was prompted by a supplier report of a non-conformity occurring during production. This AD requires removing certain flight control Flexball cables from service and prohibits installing those flight control Flexball cables on any helicopter, as specified in a European Union Aviation Safety Agency (EASA) AD, which is incorporated by reference. This AD also requires reporting certain information. The FAA previously sent an emergency AD to all known U.S. owners and operators of these helicopters. The FAA is issuing this AD to address the unsafe condition on these products.

DATES: This AD is effective June 7, 2022. Emergency AD 2022-10-51, issued on May 3, 2022, which contained the requirements of this amendment, was effective with actual notice.

The Director of the Federal Register approved the incorporation by reference of a certain publication listed in this AD as of June 7, 2022.

The FAA must receive comments on this AD by July 7, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material incorporated by reference (IBR) in this final rule, contact EASA, Konrad-Adenauer-Ufer 3, 50668 Cologne, Germany; telephone +49 221 8999 000; email ADs@easa.europa.eu; internet www.easa.europa.eu. You may find this IBR material on the EASA website at https://ad.easa.europa.eu. For Airbus Helicopters service information identified in this final rule, contact Airbus Helicopters, 2701 North Forum Drive, Grand Prairie, TX 75052; telephone (972) 641-0000 or (800) 232-0323; fax (972) 641-3775; or at https://www.airbus.com/helicopters/services/technical-support.html. You may view this material at the FAA, Office of the Regional Counsel, Southwest Region, 10101 Hillwood Pkwy., Room 6N-321, Fort Worth, TX 76177. For information on the availability of this material at the FAA, call (817) 222-5110. Service information that is IBRed is also available in the AD docket at https://www.regulations.gov by searching for and locating Docket No. FAA-2022-0519.

Examining the AD Docket

You may examine the AD docket at https://www.regulations.gov by searching for and locating Docket No. FAA-2022-0519; or in person at Docket Operations between 9 a.m. and 5 p.m., Monday through Friday, except Federal holidays. The AD docket contains this final rule, the EASA emergency AD, any comments received, and other information. The street address for Docket Operations is listed above. Comments will be available in the AD docket shortly after receipt.

FOR FURTHER INFORMATION CONTACT: Kristi Bradley, Program Manager, COS Program Management Section, Operational Safety Branch, Compliance & Airworthiness Division, FAA, 10101 Hillwood Pkwy., Fort Worth, TX 76177; telephone (817) 222-5110; email kristin.bradley@faa.gov.

SUPPLEMENTARY INFORMATION:

Background

On May 3, 2022, the FAA issued Emergency AD 2022-10-51 for Airbus Helicopters Model AS350B, AS350B1, AS350B2, AS350B3, AS350BA, AS350D, AS355E, AS355F, AS355F1, AS355F2, AS355N, AS355NP, EC130B4, and EC130T2 helicopters; and Airbus Helicopters Deutschland GmbH (AHD) Model EC135P1, EC135P2, EC135P2+, EC135P3, EC135T1, EC135T2, EC135T2+, EC135T3, MBB-BK 117 C-2, MBB-BK 117 D-2, and MBB-BK 117 D-3 helicopters. Emergency AD 2022-10-51 requires removing certain part-numbered and serial-numbered flight control Flexball cables from service and prohibits installing those flight control Flexball cables on any helicopter. Emergency AD 2022-10-51 also requires reporting certain information to Airbus Helicopters or AHD, as applicable. The FAA sent the emergency AD to all known U.S. owners and operators of these helicopters. That action was prompted by EASA Emergency AD 2022-0077-E, dated April 29, 2022 (EASA AD 2022-0077-E), to correct an unsafe condition for Airbus Helicopters (AH), formerly Eurocopter, Eurocopter France, Aerospatiale, Model AS 350 B, AS 350 B1, AS 350 B2, AS 350 B3, AS 350 BA, AS 350 BB, AS 350 D, AS 355 E, AS 355 F, AS 355 F1, AS 355 F2, AS 355 N, AS 355 NP, EC 130 B4, and EC 130 T2 helicopters, all serial numbers (S/Ns); and Airbus Helicopters Deutschland GmbH (AHD), formerly Eurocopter Deutschland GmbH, Eurocopter España S.A., Model EC 135 T1, EC 135 T2, EC 135 T2+, EC 135 T3, EC 135 P1, EC 135 P2, EC 135 P2+, EC 135 P3, EC 635 T1, EC 635 T2+, EC 635 T3, EC 635 P2+, EC 635 P3, MBB-BK 117 D-2, MBB-BK 117 D-3, MBB-BK 117 D-3m, and MBB-BK 117 C-2 helicopters, all S/Ns.

The FAA is issuing this AD to address non-conforming flight control Flexball cables, which, if not addressed, could result in increased friction inside the flight control Flexball cables, jamming of the flight controls, and subsequent loss of control of the helicopter. See EASA AD 2022-0077-E for additional background information.

Related Service Information Under 1 CFR Part 51

EASA AD 2022-0077-E requires replacing affected flight control Flexball cables with a serviceable part and prohibits installing an affected flight control Flexball cable on any helicopter.

This material is reasonably available because the interested parties have access to it through their normal course of business or by the means identified in the ADDRESSES section.

Other Related Service Information

The FAA reviewed Airbus Helicopters Emergency Alert Service Bulletin (EASB) AS350 67.00.81, AS355 67.00.49, and EC130 67A023, which are co-published as one document along with AS550 67.00.45 (military) and AS555 67.00.34 (military), EASB EC135-67A-043, EASB EC135H-67A-016, EASB MBB-BK117 C-2-67A-032, and EASB MBB-BK117 D-2-67A-021, each Revision 0 and dated April 29, 2022. This service information specifies procedures for determining if an affected Flexball is installed. If an affected Flexball is installed, or if it cannot be determined if an affected Flexball is installed, this service information specifies procedures for replacing the Flexball, returning the removed Flexball to the supplier, and completing and emailing a reply form sheet to Airbus Helicopters Customer Support or Airbus Helicopters Service Bulletin Germany, depending on your model helicopter.

FAA's Determination

These helicopters have been approved by EASA and are approved for operation in the United States. Pursuant to the FAA's bilateral agreement with the European Union, EASA has notified the FAA about the unsafe condition described in its emergency AD. The FAA is issuing this AD after evaluating all pertinent information and determining that the unsafe condition exists and is likely to exist or develop on other helicopters of the same type designs.

Requirements of This AD

This AD requires accomplishing the actions specified in EASA AD 2022-0077-E, described previously, as IBRed, except for any differences identified as exceptions in the regulatory text of this AD and except as discussed under “Differences Between this AD and the EASA AD.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2022-0077-E is IBRed in this FAA final rule. This AD, therefore, requires compliance with EASA AD 2022-0077-E in its entirety through that incorporation, except for any differences identified as exceptions in the regulatory text of this AD. Using common terms that are the same as the heading of a particular section in EASA AD 2022-0077-E does not mean that operators need comply only with that section. For example, where the AD requirement refers to “all required actions and compliance times,” compliance with this AD requirement is not limited to the section titled “Required Action(s) and Compliance Time(s)” in EASA AD 2022-0077-E. Service information referenced in EASA AD 2022-0077-E for compliance will be available at https://www.regulations.gov by searching for and locating Docket No. FAA-2022-0519 after this final rule is published.

Differences Between This AD and the EASA AD

EASA AD 2022-0077-E applies to Airbus Helicopters Model AS 350 BB helicopters and Airbus Helicopters Deutschland GmbH (AHD) Model EC 635 T1, EC 635 T2+, EC 635 T3, EC 635 P2+, EC 635 P3, and MBB-BK 117 D-3m helicopters. This AD does not apply to those model helicopters because those models are not FAA type-certificated and are not included on the U.S. type certificate data sheet (TCDS), except where the TCDS explains that the Model EC635T2+ helicopter having serial number 0858 was converted from Model EC635T2+ to Model EC135T2+. The service information referenced in EASA AD 2022-0077-E specifies sending removed Flexball cables to the supplier; whereas, this AD requires removing an affected part from service. EASA AD 2022-0077-E specifies that a single ferry flight without passengers is allowed to a maintenance location where the action required by the AD can be accomplished; whereas this AD may allow a special flight permit or continuous authorization flight for a single flight, provided that there are no passengers onboard and that there is no noticeable increase in friction in the flight control system. EASA AD 2022-0077-E does not require reporting information; whereas, this AD does.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that required the immediate adoption of Emergency AD 2022-10-51, issued on May 3, 2022, to all known U.S. owners and operators of these helicopters. The FAA found that the risk to the flying public justified waiving notice and comment prior to adoption of this rule because the affected component is part of the flight control system and is critical to the control of a helicopter. A non-conforming flight control Flexball cable, if not corrected, could result in jamming of the flight controls during various operations and phases of flight, and over various terrains. Additionally, the FAA has no information pertaining to how quickly the condition may propagate to failure. In light of this, the initial actions required by this AD must be accomplished before next flight. These conditions still exist, therefore, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-0519; Project Identifier MCAI-2022-00589-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kristi Bradley, Program Manager, COS Program Management Section, Operational Safety Branch, Compliance & Airworthiness Division, FAA, 10101 Hillwood Pkwy., Fort Worth, TX 76177; telephone (817) 222-5110; email kristin.bradley@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects up to 1,785 helicopters of U.S. Registry. Labor rates are estimated at $85 per work-hour. Based on these numbers, the FAA estimates the following costs to comply with this AD.

Replacing a flight control Flexball cable takes about 8 work-hours and parts cost about $804 to $13,555, depending on part number, for an estimated cost of $1,484 to $14,235 per helicopter and up to $437,780 to $4,199,325 for the U.S. fleet (there are up to 295 affected flight control Flexball cables installed in the U.S. fleet). Reporting information takes about 0.5 work-hour for an estimated cost of $43 per helicopter and up to $76,755 for the U.S. fleet.

Paperwork Reduction Act

A federal agency may not conduct or sponsor, and a person is not required to respond to, nor shall a person be subject to penalty for failure to comply with a collection of information subject to the requirements of the Paperwork Reduction Act unless that collection of information displays a currently valid OMB Control Number. The OMB Control Number for this information collection is 2120-0056. Public reporting for this collection of information is estimated to be approximately 0.5 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-10-51 Airbus Helicopters and Airbus Helicopters Deutschland GmbH (AHD): Amendment 39-22050; Docket No. FAA-2022-0519; Project Identifier MCAI-2022-00589-R.

(a) Effective Date

The FAA issued Emergency Airworthiness Directive (AD) 2022-10-51 on May 3, 2022, directly to affected owners and operators. As a result of such actual notice, that AD was effective for those owners and operators on the date it was provided. This AD contains the same requirements as that emergency AD and, for those who did not receive actual notice, is effective on June 7, 2022.

(b) Affected ADs

None.

(c) Applicability

This AD applies to the helicopters identified in paragraphs (c)(1) and (2) of this AD, certificated in any category.

(1) Airbus Helicopters Model AS350B, AS350B1, AS350B2, AS350B3, AS350BA, AS350D, AS355E, AS355F, AS355F1, AS355F2, AS355N, AS355NP, EC130B4, and EC130T2 helicopters.

Note 1 to paragraph (c)(1): Helicopters with an AS350B3e designation are Model AS350B3 helicopters.

(2) Airbus Helicopters Deutschland GmbH (AHD) Model EC135P1, EC135P2, EC135P2+, EC135P3, EC135T1, EC135T2, EC135T2+, EC135T3, MBB-BK 117 C-2, MBB-BK 117 D-2, and MBB-BK 117 D-3 helicopters.

Note 2 to paragraph (c)(2): Helicopters with an EC135P3H designation are Model EC135P3 helicopters. Helicopters with an EC135T3H designation are Model EC135T3 helicopters. Helicopters with an MBB-BK117 C-2e designation are Model MBB-BK117 C-2 helicopters.

(d) Subject

Joint Aircraft System Component (JASC) Code: 2700, Flight Control System.

(e) Unsafe Condition

This AD was prompted by a supplier report of a non-conformity occurring during production. The FAA is issuing this AD to address non-conforming flight control Flexball cables. The unsafe condition, if not addressed, could result in increased friction inside the flight control Flexball cables, jamming of the flight controls, and subsequent loss of control of the helicopter.

(f) Compliance

Comply with this AD within the compliance times specified, unless already done.

(g) Requirements

Except as specified in paragraph (h) of this AD: Comply with all required actions and compliance times specified in, and in accordance with, European Union Aviation Safety Agency (EASA) Emergency AD 2022-0077-E, dated April 29, 2022 (EASA AD 2022-0077-E).

(h) Exceptions to EASA AD 2022-0077-E

(1) Where EASA AD 2022-0077-E refers to its effective date, this AD requires using the effective date of this AD.

(2) Where the service information referenced in EASA AD 2022-0077-E specifies returning a part to the supplier, this AD requires removing an affected part from service.

(3) The note to paragraph (1) of EASA AD 2022-0077-E does not apply to this AD; instead, see the provisions in paragraph (j) of this AD.

(4) This AD does not mandate compliance with the “Remarks” section of EASA AD 2022-0077-E.

(i) Reporting Requirement

Within 10 days after accomplishing the actions required by paragraph (g) of this AD, report the information requested in Appendix 1 to this AD to the email address identified in paragraph (i)(1) or (2) of this AD, depending on your helicopter model.

(1) For Model AS350B, AS350B1, AS350B2, AS350B3, AS350BA, AS350D, AS355E, AS355F, AS355F1, AS355F2, AS355N, AS355NP, EC130B4, and EC130T2 helicopters: customersupport.helicopters@airbus.com.

(2) For Model EC135P1, EC135P2, EC135P2+, EC135P3, EC135T1, EC135T2, EC135T2+, EC135T3, MBB-BK 117 C-2, MBB-BK 117 D-2, and MBB-BK 117 D-3 helicopters: support.technical-bulletins.ahd@airbus.com.

(j) Special Flight Permit

A special flight permit or continuous authorization flight for a single flight may be issued, provided that there are no passengers onboard and that there is no noticeable increase in friction in the flight control system.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Kristi Bradley, Program Manager, COS Program Management Section, Operational Safety Branch, Compliance & Airworthiness Division, FAA, 10101 Hillwood Pkwy., Fort Worth, TX 76177; telephone (817) 222-5110; email kristin.bradley@faa.gov.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) Emergency AD 2022-0077-E, dated April 29, 2022.

(ii) [Reserved]

(3) For EASA AD 2022-0077-E, contact EASA, Konrad-Adenauer-Ufer 3, 50668 Cologne, Germany; telephone +49 221 8999 000; email ADs@easa.europa.eu; internet www.easa.europa.eu. You may find the EASA material on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2022-0519.

(5) You may view this material that is incorporated by reference at the National Archives and Records Administration (NARA). For information on the availability of this material at NARA, email fr.inspection@nara.gov, or go to: https://www.archives.gov/federal-register/cfr/ibr-locations.html.

Appendix 1 to Airworthiness Directive 2022-10-51

Conformity of the Flexballs (sample format)

Provide the following information by email as follows:

For Model AS350B, AS350B1, AS350B2, AS350B3, AS350BA, AS350D, AS355E, AS355F, AS355F1, AS355F2, AS355N, AS355NP, EC130B4, and EC130T2 helicopters: customersupport.helicopters@airbus.com.

For Model EC135P1, EC135P2, EC135P2+, EC135P3, EC135T1, EC135T2, EC135T2+, EC135T3, MBB-BK 117 C-2, MBB-BK 117 D-2, and MBB-BK 117 D-3 helicopters: support.technical-bulletins.ahd@airbus.com.

Helicopter Model and Serial Number:

Flexball Part Number:

Flexball Serial Number:

Issued on May 9, 2022.
Gaetano A. Sciortino,
Deputy Director for Strategic Initiatives, Compliance & Airworthiness Division, Aircraft Certification Service.

[FR Doc. 2022-11067 Filed 5-19-22; 11:15 am]

BILLING CODE 4910-13-P